DEPARTMENT OF COMMERCE

International Trade Administration

[C-427-810]

Certain Corrosion-Resistant Carbon Steel Flat Products From France: Extension of Time Limits for Preliminary Results and Final Results of Full Sunset Review

AGENCY: Import Administration, International Trade Administration, Department of Commerce.

EFFECTIVE DATE: February 28, 2006.

FOR FURTHER INFORMATION CONTACT: Stephanie Moore or David Goldberger, AD/CVD Operations, Import Administration, International Trade Administration, U.S. Department of Commerce, 14th Street & Constitution Avenue, NW., Washington, DC 20230; telephone: (202) 482-3692 or (202) 482-4136, respectively.

SUPPLEMENTARY INFORMATION:

Extension of Time Limits:

On November 1, 2005, the Department of Commerce (“the Department”) initiated sunset reviews of the countervailing duty (“CVD”) order on certain corrosion-resistant carbon steel flat products (“CORE”) from France, pursuant to section 751(c) of the Tariff Act of 1930, as amended (“the Act”). See Initiation of Five-Year (Sunset) Reviews, 70 FR 65884 (November 1, 2005). Based on adequate responses from the domestic and respondent interested parties, the Department is conducting a full sunset review to determine whether revocation of the CVD order on CORE from France would lead to the continuation or recurrence of a countervailable subsidy. See section 19 CFR 351.218(e)(2)(i) of the Act.

In accordance with section 751(c)(5)(B) of the Act, the Department may extend the period of time for making its determination in a sunset review by not more than 90 days, if it determines that the review is extraordinarily complicated. As set forth in section 751(c)(5)(C)(v) of the Act, the Department may treat a sunset review as extraordinarily complicated if it is a review of a transition order. The sunset review subject to this notice is a review of a transition order. Therefore, the Department has determined, pursuant to section 751(c)(5)(C)(v) of the Act, that the sunset review of the CVD order on CORE from France is extraordinarily complicated and requires additional time for the Department to complete its analysis. Accordingly, the Department will extend the deadline in this proceeding, and, as a result, intends to issue the preliminary results of the sunset review of the CVD order on CORE from France on or about May 23, 2006, and the final results of that review on September 27, 2006. These dates are 90 days from the original scheduled dates of the preliminary and final results of this sunset review.

This notice is issued and published in accordance with sections 751(c)(5)(B) and (C) of the Act.

Dated: February 21, 2006.
Stephen J. Claeys,
Deputy Assistant Secretary for Import Administration.

[FR Doc. E6-2789 Filed 2-27-06; 8:45 am]

Billing Code: 3510-DS-S